FEDERAL COMMUNICATIONS COMMISSION

[IB Docket No. 16-185; DA 18-263]

Announcement of Re-Chartering for the WRC-19 Advisory Committee

AGENCY: Federal Communications Commission.

ACTION: Notice.

SUMMARY: In accordance with the Federal Advisory Committee Act (Pub. L. 92-463), the Federal Communications Commission announces that the charter for the Advisory Committee for the 2019 World Radio Conference (WRC-19 Advisory Committee) has been renewed by the General Services Administration (GSA) for a two-year period. The WRC-19 Advisory Committee is a federal advisory committee under the Federal Advisory Committee Act.

DATES: Renewed for two years, starting April 6, 2018.

ADDRESSES: Federal Communications Commission, 445 12th Street SW, Room TW-C305, Washington, DC 20554.

FOR FURTHER INFORMATION CONTACT: Michael Mullinix, Designated Federal Officer (DFO), WRC-19 Advisory Committee, FCC International Bureau, Global Strategy and Negotiations Division, at (202) 418-0491. Email: michael.mullinix@fcc.gov.

SUPPLEMENTARY INFORMATION: In accordance with the Federal Advisory Committee Act, Public Law 92-463, as amended, this notice advises interested persons that the GSA renewed the charter of the WRC-19 Advisory Committee for two years, commencing April 6, 2018. Its scope of activities is to address issues contained in the agenda for the 2019 World Radio Conference (WRC-19). The WRC-19 Advisory Committee will continue to provide to the FCC advice, data, and technical analyses, and will formulate recommendations relating to the preparation of U.S. proposals and positions for WRC-19.

Federal Communications Commission.
Troy Tanner,
Deputy Chief, International Bureau.

[FR Doc. 2018-08357 Filed 4-20-18; 8:45 am]

BILLING CODE 6712-01-P